AGENCY FOR INTERNATIONAL DEVELOPMENT

Notice of Public Information Collections Being Reviewed by the U.S. Agency for International Development; Comments Requested

SUMMARY: U.S. Agency for International Development (USAID) is making efforts to reduce the paperwork burden. USAID invites the general public and other Federal agencies to take this opportunity to comment on the following proposed and/or continuing information collections, as required by the Paperwork Reduction Act for 1995. Comments are requested concerning: (a) Whether the proposed or continuing collections of information are necessary for the proper performance of the functions of the agency, including whether the information shall have practical utility; (b) the accuracy of the burden estimates; (c) ways to enhance the quality, utility, and clarity of the information collected; and (d) ways to minimize the burden of the collection of information on the respondents, including the use of automated collection techniques or other forms of information technology.

DATES: Submit comments on or before September 25, 2001.

FOR FURTHER INFORMATION CONTACT: Beverly Johnson, Bureau for Management, Office of Administrative Services, Information and Records Division, U.S. Agency for International Development, Room 2.07-106, RRB, Washington, DC, 20523, (202) 712-1365 or via e-mail bjohnson@usaid.gov.

SUPPLEMENTARY INFORMATION:

OMB No: OMB 0412-.

Form No.: AID 1558-3.

Title: Financial Report of All Expenditures (FRAE).

Type of Review: New Information Collection.

Purpose: The purpose of this information collection is to collect data on liquidated cost sharing funds on a quarterly basis and to assure that recipients abide by agreed conditions of the award. This collection is needed to assure that grant recipients participate in negotiated USAID/BHR/ASHA grant financed projects by providing additional funds from sources other than U.S. federal monies.

Annual Reporting Burden

Respondents: 196.

Total annual responses: 380.

Total annual hours requested: 380 hours.

Dated: July 13, 2001.
Joanne Paskar,
Chief, Information and Records Division, Office of Administrative Services, Bureau for Management.

[FR Doc. 01-18786 Filed 7-26-01; 8:45 am]

BILLING CODE 6116-01-M